LEGAL SERVICES CORPORATION

Notice of Funding Availability and Request for Proposals for Calendar Year 2026 Basic Field Grant Awards

AGENCY: Legal Services Corporation.

ACTION: Notice of funding availability.

SUMMARY: The Legal Services Corporation (LSC) is a federally established and funded 501(c)(3) nonprofit organization that funds civil legal aid organizations across the country and in the U.S. territories. Its mission is to expand access to justice by funding high-quality legal representation for low-income people in civil matters. In anticipation of a congressional appropriation to LSC for Fiscal Year 2026, LSC hereby announces the availability of funding for basic field grants with terms commencing in January 2026. LSC will publish a Request for Proposals (RFP) and seeks applications from interested parties who are qualified to provide effective, efficient, and high-quality civil legal services to eligible clients in the service area(s) of the states and territories identified below. The availability and the exact amount of congressionally appropriated funds, as well as the date, terms, and conditions of funds available for grants for calendar year 2026, have not yet been determined.

DATES: See SUPPLEMENTARY INFORMATION section below for grant application dates.

ADDRESSES: By email to lscgrants@lsc.gov or by other correspondence to Legal Services Corporation—Basic Field Grant Awards, 1825 I Street NW, Eighth Floor, Washington, DC 20006.

FOR FURTHER INFORMATION CONTACT: Christine Williams by phone at 202-295-1602 or email at lscgrants@lsc.gov, or visit the LSC website at https://www.lsc.gov/grants/basic-field-grant.

SUPPLEMENTARY INFORMATION: The Legal Services Corporation (LSC) hereby announces the availability of funding for basic field grants with terms beginning in January 2026. LSC seeks grant proposals from interested parties who are qualified to provide effective, efficient, and high-quality civil legal services to eligible clients in the service area(s) of the states and territories identified below. Interested potential applicants must first file a Pre-Application. After approval by LSC of the Pre-Application, an applicant can submit an application in response to the RFP, which contains the grant proposal guidelines, proposal content requirements, and selection criteria. The Pre-Application and RFP will open in GrantEase, LSC's grants management system, on or around April 15, 2025. Additional information will be available at https://www.lsc.gov/grants/basic-field-grant.

The listing of all key dates for the LSC 2026 basic field grants process, including the deadlines for filing grant proposals, is available at https://www.lsc.gov/grants/basic-field-grant/how-apply-basic-field-grant/basic-field-grant-key-dates.

LSC seeks proposals from: (1) non-profit organizations that have as a purpose the provision of legal assistance to eligible clients; (2) private attorneys; (3) groups of private attorneys or law firms; (4) state or local governments; and (5) sub-state regional planning and coordination agencies that are composed of sub-state areas and whose governing boards are controlled by locally elected officials.

The service areas for which LSC is requesting grant proposals for 2026 are listed below. LSC provides grants for three types of service areas: Basic Field-General, Basic Field-Native American, and Basic Field-Agricultural Worker. For example, the state of Idaho has three basic field service areas: ID-1 (General), NID-1 (Native American), and MID (Agricultural Worker). Service area descriptions are available at https://www.lsc.gov/grants/basic-field-grant/lsc-service-areas. LSC will post all updates and changes to this notice at https://www.lsc.gov/grants/basic-field-grant/lsc-service-areas. Interested parties can visit https://www.lsc.gov/grants/basic-field-grant or reach out to lscgrants@lsc.gov.

State or territory | Service area(s)
Arizona | MAZ, AZ-3, AZ-5, NAZ-6.
Arkansas | AR-8.
California | CA-1, NCA-1, CA-12, CA-27, CA-28.
Connecticut | CT-1.
Delaware | MDE.
District of Columbia | DC-1.
Florida | FL-18.
Guam/Micronesia | MP-2.
Illinois | IL-3, IL-7.
Kentucky | KY-2, KY-9, KY-10.
Louisiana | LA-13.
Massachusetts | MA-11, MA-4, MA-10.
Maryland | MMD, MD-1.
Michigan | MMI, MI-9, MI-12, MI-15, NMI-1.
Minnesota | MMN, MN-4, MN-5, MN-6.
Missouri | MO-4, MO-5.
New Hampshire | NH-1.
New Mexico | MNM, NM-5, NNM-4.
New York | NY-9.
North Dakota | MND.
Ohio | OH-18, OH-20, OH-21, MOH, OH-23.
Oklahoma | MOK, OK-3, NOK-1.
Pennsylvania | PA-24.
Puerto Rico | PR-2.
South Dakota | SD-2, SD-4, NSD-1.
Tennessee | TN-7, TN-9, TN-10.
Texas | MSX-2, TX-15, NTX-1, TX-13.
Virginia | VA-17, VA-19, VA-20.
West Virginia | WV-5.
Wisconsin | MWI, WI-5.

(Authority: 42 U.S.C. 2996g(e).)

Dated: March 6, 2025.
Stefanie Davis,
Deputy General Counsel, Legal Services Corporation.

[FR Doc. 2025-03884 Filed 3-11-25; 8:45 am]

BILLING CODE 7050-01-P